FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than September 27, 2023.

A. Federal Reserve Bank of Atlanta (Erien O. Terry, Assistant Vice President) 1000 Peachtree Street NE, Atlanta, Georgia 30309; Comments can also be sent electronically to Applications.Comments@atl.frb.org:

1. Smith & Hood Investments, L.L.C., WKH Holdings, LLC, Smith-Hoover Holdings, L.L.C., Amy Hood Conti, Savannah K. Conti, and Chad Tate, all of Amite, Louisiana; Nancy Hood Pray, Kenneth C. Pray, Betsy Kent Hood, and Steven Hoover, all of Hammond, Louisiana; MACSMITH, L.L.C., MacBrandon Industries, L.L.C., and Luiz Macedo, all of Ponchatoula, Louisiana; Thomas J. Hood, Fluker, Louisiana; Candace Hood Jenkins, Franklinton, Louisiana; and CAM2 Holding Company, L.L.C., Roseland, Louisiana; to become members of an existing family control group, a group acting in concert to retain voting shares of First Guaranty Bancshares, Inc., and thereby indrectly retain voting shares of First Guaranty Bank, both of Hammond, Louisiana.

Board of Governors of the Federal Reserve System.
Michele Taylor Fennell,
Deputy Associate Secretary of the Board.

[FR Doc. 2023-19670 Filed 9-11-23; 8:45 am]

BILLING CODE P